DEPARTMENT OF DEFENSE

GENERAL SERVICES ADMINISTRATION

NATIONAL AERONAUTICS AND SPACE ADMINISTRATION

[OMB Control No. 9000-0108; Docket 2016-0053; Sequence 20]

Information Collection; Bankruptcy

AGENCY: Department of Defense (DOD), General Services Administration (GSA), and National Aeronautics and Space Administration (NASA).

ACTION: Notice of request for comments regarding the extension to an existing OMB clearance.

SUMMARY: Under the provisions of the Paperwork Reduction Act, Regulatory Secretariat Division will be submitting to the Office of Management and Budget (OMB) a request to review and approve an extension of a previously approved information collection requirement concerning Bankruptcy.

DATES: Submit comments on or before June 24, 2016.

ADDRESSES: Submit comments identified by Information Collection 9000-0108, Bankruptcy, by any of the following methods:

• Regulations.gov: http://www.regulations.gov. Submit comments via the Federal eRulemaking portal by searching the OMB control number. Select the link “Submit a Comment” that corresponds with “Information Collection 9000-0108, Bankruptcy.” Follow the instructions provided at the “Submit a Comment” screen. Please include your name, company name (if any), and “Information Collection 9000-0108, Bankruptcy” on your attached document.

• Mail: General Services Administration, Regulatory Secretariat Division (MVCB), 1800 F Street NW., Washington, DC 20405. ATTN: Ms. Flowers/IC Information Collection 9000-0108, Bankruptcy.

Instructions: Please submit comments only and cite Information Collection 9000-0108, Bankruptcy, in all correspondence related to this collection. Comments received generally will be posted without change to http://www.regulations.gov, including any personal and/or business confidential information provided. To confirm receipt of your comment(s), please check www.regulations.gov, approximately two to three days after submission to verify posting (except allow 30 days for posting of comments submitted by mail).

FOR FURTHER INFORMATION CONTACT: Curtis E. Glover, Sr., Procurement Analyst, Contract Policy Division, GSA, 202-501-1448 or email curtis.glover@gsa.gov.

SUPPLEMENTARY INFORMATION: Title and OMB Number: Federal Acquisition Regulation, Part 42, Bankruptcy and Related Clause in 52.242-13; OMB Control Number 9000-0108.

Needs and Uses: The Government requires contractors to notify the contracting officer within five days after the contractor enters into bankruptcy. The Procuring Contracting Officer and the Administrative Contracting Officer use the information to ensure the contractor's ability to perform its Government contract.

A. Purpose

Under statute, contractors may enter into bankruptcy which may have a significant impact on the contractor's ability to perform its Government contract. The Government often does not receive adequate and timely notice of this event. The clause at 52.242-13 requires contractors to notify the contracting officer within 5 days after the contractor enters into bankruptcy.

B. Annual Reporting Burden

Respondents: 545.

Responses per Respondent: 1.

Annual Responses: 545.

Hours per Response: 1.25.

Total Burden Hours: 681.

Frequency of Collection: On occasion.

Affected Public: Businesses or other for-profit and not-for profit institutions.

Obtaining Copies of Proposals: Requesters may obtain a copy of the information collection documents from the General Services Administration, Regulatory Secretariat Division (MVCB), 1800 F Street NW., Washington, DC 20405, telephone 202-501-4755. Please cite OMB Control No. 9000-0108, Bankruptcy, in all correspondence.

Dated: April 20, 2016.
Lorin S. Curit,
Director, Federal Acquisition Policy Division, Office of Governmentwide Acquisition Policy, Office of Governmentwide Policy, Office of Acquisition Policy.

[FR Doc. 2016-09487 Filed 4-22-16; 8:45 am]

BILLING CODE 6820-EP-P